DEPARTMENT OF ENERGY

Federal Energy Regulatory Commission

[Docket No. CP96-152-026]

Kansas Pipeline Company; Notice of Waiver

June 8, 2000.

Take notice that on May 26, 2000, Kansas Pipeline Company (KPC) tendered for filing a request for waiver of the EDI format requirement of the GISB standards. KPC has requested that its current waiver, until August 1, 2000, be extended for an additional one year, until August 1, 2001.

KPC states that copies of this filing have been served on all parties to the proceeding in Docket No. CP96-152.

Any person desiring to protest said filing should file a protest with the Federal Energy Regulatory Commission, 888 First Street, NE, Washington, DC 20426, in accordance with Section 385.211 of the Commission's Rules and Regulations. All such protests must be filed on or before June 15, 2000, Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

David P. Boergers,
Secretary.

[FR Doc. 00-14921 Filed 6-13-00; 8:45 am]

BILLING CODE 6717-01-M